ENVIRONMENTAL PROTECTION AGENCY

[ER-FRL-6647-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 4, 2003 (68 FR 16511).

Draft EISs

ERP No. D-AFS-G65091-NM Rating LO, Surface Management of Gas Leasing and Development in the Carson National Forest, Implementation, Jicarilla Ranger District, Rio Arriba County, NM.

Summary: EPA has no objections to the proposed action since the project includes mitigation and site specific Conditions of Approval (COA)'s.

ERP No. D-AFS-J65395-WY Rating EC2, Lost Cabin Mine Project, Improvement of Historic Mining Road (Way 4170H) to Allow Motorized Access to the Lost Mine for Mineral Exploration, Plan-of -Operations, Medicine-Bow Routt National Forests and Thunder Basin National Grassland, Carbon County, WY.

Summary: EPA expressed environmental concerns with potential impacts to water quality. The final EIS should include more information on the potential of the mining exploration to cause acid mine drainage.

ERP No. D-AFS-J65398-MT Rating EC2, Judith Restoration Project, Proposal to Maintain and/or Restore Healthy Soil, Water and Vegetation Conditions, Lewis and Clark National Forest, Judith Ranger District, Judith Basin County, MT.

Summary: EPA expressed environmental concerns with potential impacts to water quality, fisheries, and consistency of project activities with State/EPA development of TMDLs and Water Quality Restoration Plans to address impairments in the 303(d) listed South Fork Judith River. EPA recommended modifications in the final EIS to address these issues.

ERP No. D-AFS-K65261-CA Rating EC2, Larson Reforestation and Fuel Reduction Project, Implementation, Stanislaus National Forest, Groveland Ranger District, Mariposa and Tuolumne Counties, CA.

Summary: EPA expressed environmental concerns regarding the potential impacts to aquatic habitat as a result of aerial herbicide applications. EPA requested additional information regarding Best Management Practices, a more extensive cumulative impacts analysis, and including recent studies regarding impacts of nonylphenol and its ethoxylates on riparian ecosystems.

ERP No. D-BLM-J02041-WY Rating EC2, Desolation Flats Natural Gas Field Development Project, Drilling Additional Development Wells, Carbon and Sweetwater Counties, WY.

Summary: EPA expressed environmental concerns with potential adverse impacts to air quality, water quality and wildlife. EPA requested that the final EIS identify additional mitigation for air quality impacts and to include benefits and costs of implementation. EPA recommended updating visibility and lake acidification impacts and including mitigation to reduce additional emissions in Class 1 areas. The final EIS should add mitigation that would reduce storm water runoff from well pads, compressor stations and other disturbed areas related to project development.

ERP No. D-FHW-C40160-NY Rating EC2, Cumberland Head Connector Road Construction, County Road 57 between U.S. 9 and the Peninsula (known as the Parkway), Funding, Town of Plattsburg, Clinton County, NY.

Summary: EPA has environmental concerns regarding the alternative analysis, the direct/indirect impacts to wetlands and the appropriate mitigation requirements, and the need for further mitigation of stormwater runoff associated with the project.

ERP No. D-FHW-E40800-FL Rating EC2, Indian Street Bridge PD&E Study, New Bridge Crossing of the South Fork of the St. Lucie River County Road 714 (Martin Highway)/SW 36th Street/Indian Street from Florida's Turnpike to East of Willoughby Boulevard, Martin County, FL.

Summary: EPA has environmental concerns with the proposed project regarding the long term impacts and the continued degradation to aquatic resources of the St. Lucie River. Deficiencies have been identified in the alternatives analysis and consideration of options for mitigating adverse impacts. In addition, indirect and cumulative impacts were not assessed adequately in the DEIS.

ERP No. D-FRC-G02012-TX Rating EC2, Freeport Liquefied Natural Gas (LNG) Project, To Deliver Imported Liquefied Natural Gas to Shippers, Authorization of Site, Construction and Operation, Stratton Ridge Meter Station 2007, City of Freeport, Brazoria County, TX.

Summary: EPA expressed environmental concern regarding wetland impacts/mitigation, Clean Water Act Section 402 permitting, vaporization water intake and discharge impacts, and conformity with the state's implementation plan for air quality. EPA requested additional information on these issues.

ERP No. D-FRC-L05230-OR Rating LO, Pelton Round Butte Hydroelectric Project, (FERC No. 2030-036), Application for a New License for Existing 366.82-megawatt Project, Deschutes River, OR.

Summary: EPA Region 10 used a screening tool to conduct a limited review of this action. Base upon the screen, EPA does not foresee having environmental objections to the proposed project. Therefore, EPA will not conduct a detailed review.

ERP No. D-NOA-K91012-00 Rating EC2, Bottomfish and Seamount Groundfish Fisheries Conservation and Management Plan, Implementation, US Economic Zone (EEZ) around the State of Hawaii, Territories of Samoa and Guam, Commonwealth of the Northern Mariana and various Islands and Atolls known as the U.S. Pacific remove island areas, HI, GU and AS.

Summary: EPA expressed concerns regarding the integration of the proposed alternative with other restrictions on Bottomfish fishing in the Western Pacific, and impacts to federally-endangered Hawaiian Monk Seals.

ERP No. DS-COE-D36107-WV, Rating EC2, Lower Mud River at Milton Project, Updated Information on the Milton Local Protection Project, Proposed Flood Damage Reduction Measure, City of Milton, Cabell County, WV.

Summary: EPA expressed environmental concerns over impacts to wetlands and the effectiveness of the proposed wetland mitigation measures. EPA requested additional information regarding the mitigation measures, as well as baseline environmental conditions and predicted cumulative impacts.

Final EISs

ERP No. F-AFS-J65369-MT, Windmill Timber Sale and Road Decommissioning Project, Timber Harvesting, Road Construction and Road Decommissioning, Mill Creek Drainage, Absaroka Mountain Range, Gallatin National Forest, Park County, MT.

Summary: The Final EIS includes planning, design and mitigation measures which will reduce environmental impacts to water quality and old growth habitat. EPA does have concerns for potential adverse environmental impacts from development of land transferred through exchange, should insufficient revenue be generated by the Windmill Timber Sale for land acquisition under the Gallatin Land Consolidation Act.

ERP No. F-AFS-J70021-SD, Prairie Project Area, (Lower Rapid Creek Area) Multiple Resource Management Actions, Implementation, Black Hills National Forest, Mystic Ranger District, Pennington County, SD.

Summary: EPA continues to have environmental concerns with erosion and impacts to soils and fish and wildlife habitats from roads and transportation, water runoff and sediment.

ERP No. F-COE-E39060-GA, Lake Sidney Lanier Project to Continue the Ongoing Operation and Maintenance Activities Necessary for Flood Control, Hydropower Generation, Water Supply, Recreation, Natural Resources Management and Shoreline Management, US Army COE Section 10 and 404 Permits, Dawson, Forsyth, Lumpkin, Hill and Gwinnett Counties, GA.

Summary: EPA has no objections to the proposed project.

ERP No. F-FHW-J40154-WY, US 287/26 Improvements Project, Moran Junction to 12 miles west of Dubois to where the roadway traverses thru the Bridger-Teton and Shoshone National Forests and Grand Teton National Park, NPDES and U.S. Army COE Section 404 Permits Issuance, Teton and Fremont Counties, WY.

Summary: EPA has environmental concerns with the preferred alternative regarding impacts to endangered species, habitat, water quality and the National Parks as well as concerns regarding erosion.

ERP No. F-FRC-E03010-FL, Ocean Express Pipeline Project, Construction, Operation and Maintenance of an Interstate Natural Gas Pipeline extending from the Exclusive Economic Zone (EEZ) boundary between the United States and the Bahamas, (Docket No. CP02-090-001-1) Plan of Operations Approval, NPDES and U.S. Army COE Section 10 and Possible 404 Permits, Broward County, FL.

Summary: EPA expressed environmental concerns regarding (1) the uncertainty of the actual level of impacts during proposed pipeline placement, (2) the specifics of the final project mitigation, and (3) the potential for public involvement in certain final project decisions such as contingencies.

ERP No. F-FRC-L05200-OR, Bull Run Hydroelectric Project (FERC No.477-024), Proposal to Decommission the Bull Run Project and Remove Project Facilities including Marmot Dam, Little Sandy Diversion Dam and Roslyn Lake, and an Application to Surrender License, Sandy, Little Sandy, Bull Run Rivers, Town of Sandy, Clackamas County, OR.

Summary: No formal comment letter was sent to the preparing agency.

ERP No. F-USA-C11021-NY, Thomas Jefferson Hall and Other Construction Activities in the Cadet Zone of the United States Military Academy, Implementation, West Point, Hudson River Valley, Orange and Putnam Counties, NY.

Summary: EPA has no objections to the proposed action.

ERP No. FS-BLM-K67051-NV, Millennium Expansion Project, New Facilities Construction and Existing Gold Mining Operations Expansion, Plan-of-Operations Approval, Winnemucca, Humboldt County, NV.

Summary: EPA expressed environmental concerns that additional measures may be needed to minimize potential air impacts and suggests that BLM pursue further reductions of mercury emissions and particulates, and require restoration of vegetation on future evaporation basins.

Dated: January 13, 2004.
Ken Mittelholtz,
Environmental Protection Specialist, Office of Federal Activities.

[FR Doc. 04-1051 Filed 1-15-04; 8:45 am]

BILLING CODE 6560-50-P